DEPARTMENT OF ENERGY

Federal Energy Regulatory Commission

[Docket Nos. EG08-53-000, etc.]

Wessington Wind I, LLC, et al.; Notice of Effectiveness of Exempt Wholesale Generator Status

July 31, 2008.

| Docket No.
Wessington Wind I, LLC | EG08-53-000
Airtricity Pyron Wind Farm, LLC | EG08-54-000
Airtricity Indale Wind Farm, LLC | EG08-55-000
Airtricity Panther Creek Wind Farm, LLC | EG08-56-000
Wolf Ridge Wind, LLC | EG08-57-000
West Valley Leasing Company LLC | EG08-58-000
Winnebago Windpower LLC | EG08-59-000
Sheldon Energy LLC | EG08-60-000
Gunsight Mountain Wind Energy, LLC | EG08-61-000
Willow Creek Energy, LLC | EG08-62-000
Valencia Power, LLC | EG08-64-000
CER Generation II, LLC | EG08-65-000
Tvolumne Wind Project, LLC | EG08-66-000
CPV Maryland, LLC | EG08-67-000
Montgomery L'Energia Power Partners LP | EG08-68-000
Silver Star I Power Partners, LLC | EG08-69-000

Notice of Effectiveness of Exempt Wholesale Generator Status

Take notice that during the month of June 2008, the status of the above-captioned entities as Exempt Wholesale Generators became effective by operation of the Commission's regulations. 18 CFR 366.7(a).

Kimberly D. Bose,
Secretary.

[FR Doc. E8-18006 Filed 8-5-08; 8:45 am]

BILLING CODE 6717-01-P